DEPARTMENT OF ENERGY

Federal Energy Regulatory Commission

[Project No. 14295-000]

Notice of Preliminary Permit Application Accepted for Filing and Soliciting Comments, Motions To Intervene, and Competing Applications; Public Utility District No. 1 of Snohomish County, WA

On September 28, 2011, Public Utility District No. 1 of Snohomish County filed an application for a preliminary permit, pursuant to section 4(f) of the Federal Power Act (FPA), proposing to study the feasibility of the Sunset Falls Hydroelectric Project to be located on the South Fork Skykomish River near Index in Snohomish County, Washington. The sole purpose of a preliminary permit, if issued, is to grant the permit holder priority to file a license application during the permit term. A preliminary permit does not authorize the permit holder to perform any land-disturbing activities or otherwise enter upon lands or waters owned by others without the owner's express permission.

The proposed project will consist of the construction of the following: (1) A 140-foot-wide, 45-foot-high v-screen intake; (2) a 2,000-foot-long, 19-foot-diameter unlined rock penstock; (3) a semi-underground powerhouse with twin 15-megawatt turbines; (4) an 8.5-mile long, 115-kilovolt three-phase overhead transmission line extending from the powerhouse to an existing substation. The estimated annual generation of the Sunset Falls Hydroelectric Project would be 120 gigawatt-hours.

Applicant Contact: Mr. Kim D. Moore, Assistant General Manager, Public Utility District No.1 of Snohomish County; 2320 California Street, PO Box 1107, Everett, WA 98201; phone: (425) 783-8606.

FERC Contact: Ian Smith; phone: (202) 502-8943.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14295-000) in the docket number field to access the document. For assistance, contact FERC Online Support.

Dated: October 21, 2011.
Kimberly D. Bose,
Secretary.

[FR Doc. 2011-27836 Filed 10-26-11; 8:45 am]

BILLING CODE 6717-01-P